DEPARTMENT OF TRANSPORTATION

Federal Aviation Administration

Extension of Public Scoping Period for the Preparation of an Environmental Impact Statement for the Proposed Relocation of Runway 11R/29L and Associated Development at the Tucson International Airport in Tucson, AZ

AGENCY: Federal Aviation Administration.

ACTION: Extension of public scoping comment period for an Environmental Impact Statement.

SUMMARY: The FAA is extending the public scoping comment period for an additional 90 days to allow further participation in the scoping process. For additional information, the original announcement regarding the notice of intent to prepare an Environmental Impact Statement and to conduct scoping meetings was published in the Federal Register on October 13, 2005 (Volume 70, Number 197), Page 59800-59801. As a result of the meeting held on November 15, 2005, the FAA decided to extend the comment period to accommodate comments from potentially affected parties. Written comments on the scope of the EIS must be received no later than 5 p.m. Pacific Standard Time, March 15, 2006.

FOR FURTHER INFORMATION CONTACT: Michelle Simmons, Environmental Protection Specialist, Federal Aviation Administration, Western-Pacific Region, Airports Division, P.O. Box 92007, Los Angeles, California 90009-2007, Telephone: (310) 725-3614.

Issued in Hawthorne, California, on Wednesday, January 4, 2006.
Mark A. McClardy,
Manager, Airports Division, Western-Pacific, Region AWP-600.

[FR Doc. 06-410 Filed 1-17-06; 8:45 am]

BILLING CODE 4910-13-M